DEPARTMENT OF ENERGY

Federal Energy Regulatory Commission

[Project No. 2197-060]

Notice of Drought Contingency Plan and Soliciting Comments, Motions To Intervene, and Protests

February 26, 2003.

Take notice that the following application has been filed with the Commission and is available for public inspection:

a. Application Type: Alcoa Power Generating, Inc filed a Drought Contingency Plan describing the actions to be taken at the Yadkin River hydroelectric project in the event of a drought during the summer of 2003.

b. Project No: 2197-060.

c. Date Filed: February 14, 2003.

d. Applicant: Alcoa Power Generating, Inc.(licensee).

e. Name of Project: Yadkin River.

f. Location: The project is located on the Yadkin/Pee Dee River, in Montgomery, Stanley, Davidson, Rowan, and Davie Counties, North Carolina.

g. Filed Pursuant to: Federal Power Act, 16 U.S.C. 791(a)-825(r).

h. Applicant Contact: Julian Polk, Alcoa Power Generating Inc., 293 NC 740 Highway, PO Box 576, Badin, NC 28009-0576, (704) 422-5617.

i. FERC Contact: Any questions on this notice should be directed to Mr. T.J. LoVullo at (202) 502-8900, or e-mail address: thomas.lovullo@ferc.gov.

j. Deadline for filing comments and or motions: March 28, 2003.

All documents (original and eight copies) should be filed with: Ms. Magalie R. Salas, Secretary, Federal Energy Regulatory Commission, 888 First Street, NE., Washington DC 20426. Please include the project number ( P-2197) on any comments or motions filed.

k. Description of Drought Plan: By letter dated December 20, 2002, the Commission stated that if precipitation during the winter of 2002/2003 is below average and ground water tables have not completely recharged, severe drought conditions could return to the region during the summer of 2003. To minimize any adverse impacts associated with a drought, the Commission required the licensee to file a drought contingency plan for the summer of 2003.

The licensee's Drought Contingency Plan discusses competing demands for water in the Yadkin-Pee Dee River Basin and describes a process for monitoring and responding to drought conditions. The licensee's plan includes: (1) Declaring the existence of a drought when the U.S. Drought Monitor elevates 10% or more of the Yadkin—Pee Dee River basin to a drought severity classification of D1 or higher; (2) developing action and communication plans should drought conditions emerge; (3) holding meetings with officials from North and South Carolina, Progress Energy and the U.S. Fish & Wildlife Service to monitor conditions; (4) implementing operational changes to balance competing interests; and (5) continuing to study salt-water intrusion at fresh water intakes on the coast of South Carolina.

l. Location of the Application: A copy of the application is available for inspection and reproduction at the Commission's Public Reference Room, located at 888 First Street, NE., Room 2A, Washington, DC 20426, or by calling (202) 502-8371. This filing may also be viewed on the Commission's Web site at http://www.ferc.gov , using the “FERRIS” link. Enter Project No. 2197 excluding the last three digits in the docket number field to access the document. For assistance, contact FERC Online Support at FERCOnlineSupport@ferc.gov or toll-free at (866)208-3676, or for TTY, contact (202)502-8659. A copy is also available for inspection and reproduction at the address in item (h) above.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, 385.211, 385.214. In determining the appropriate action to take, the Commission will consider all protests or other comments filed, but only those who file a motion to intervene in accordance with the Commission's Rules may become a party to the proceeding.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

o. Filing and Service of Responsive Documents: All filings must bear in capital letters the title “COMMENTS”, “PROTEST”, OR “MOTION TO INTERVENE”, as applicable, and the Project Number to which the filing refers.

p. Agency Comments: Federal, state, and local agencies are invited to file comments on the described application. A copy of the application may be obtained by agencies directly from the Applicant. If an agency does not file comments within the time deadline specified, it will be presumed to have no comments other than any included with the licensee's filing. One copy of an agency's comments should be sent to the Applicant's representatives.

q. Comments, protests and interventions may be filed electronically via the Internet in lieu of paper. See 18 CFR 385.2001(a)(1)(iii) and the instructions on the Commission's Web site at http://www.ferc.gov under the “e-Filing” link.

Magalie R. Salas,
Secretary.

[FR Doc. 03-5104 Filed 3-3-03; 8:45 am]

BILLING CODE 6717-01-P